DEPARTMENT OF TRANSPORTATION

National Highway Traffic Safety Administration

[Docket No. NHTSA-2001-9663]

Notice of Public Workshop

AGENCY: National Highway Traffic Safety Administration, Transportation.

ACTION: Notice of public workshop.

SUMMARY: The National Highway Traffic Safety Administration (NHTSA) will conduct a public workshop to allow interested parties to learn details about NHTSA's current techniques for data acquisition in dynamic rollover and handling testing. Information will be provided about instrumentation, outriggers, and other procedures. Two fully instrumented vehicles will be made available for inspection.

DATE AND TIME: The public workshop will be held on December 3, 2002, from 10 a.m. to 2 p.m.

ADDRESSES: The public workshop will be held at NHTSA's Vehicle Research and Test Center, Building 60, Transportation Research Center, 10820 State Route 347, East Liberty, Ohio 43319.

SUPPLEMENTARY INFORMATION: This meeting will not discuss NHTSA's October 7, 2002, proposal to establish a dynamic rollover test procedure and to incorporate information obtained from that testing in consumer information on rollover (67 FR 62528). Any comments on that notice should be submitted to Docket No. NHTSA-2001-9663; Notice 2, by November 21, 2002. This meeting is intended to be a technical meeting to allow interested parties to observe in person and hear details about NHTSA's current techniques for data acquisition in dynamic rollover and handling testing. Information will be provided about instrumentation, outriggers, and other procedures. Two fully instrumented vehicles will be made available for inspection. No information will be provided about the status, projected timetable or NHTSA's tentative conclusions for the final rule on dynamic rollover testing and the presentation of rollover information to the public in the New Car Assessment Program (NCAP).

For security reasons, attendees must register in advance. To register, obtain directions to the Vehicle Research and Test Center, or request additional information, contact Jan Cooper at telephone (937) 666-4511 extension 208. If Ms. Cooper is not available, you may register by contacting Fred Seeberg at telephone (937) 666-4511 or Susan Weiser at telephone (937) 666-4511 extension 209.

The handouts and other information presented at the workshop will be available for public inspection in the DOT Docket in Washington, DC, within two weeks after the meeting. Copies of the materials will be available at ten cents a page upon request to DOT Docket, Room PL-401, 400 Seventh Street, SW., Washington, DC 20590. The DOT Docket is open to the public from 10 a.m. to 5 p.m. The material may also be accessed electronically at http://dms.dot.gov, at Docket No. NHTSA-2001-9663.

The handouts and other information presented at the workshop will also be available on NHTSA's Web site at URL http://www-nrd.nhtsa.dot.gov/departments/nrd-01/presentations/presentations.html.

Should it be necessary to cancel the meeting due to inclement weather or any other emergencies, a decision to cancel will be made as soon as possible and posted immediately on NHTSA's Web site at URL http://www.nhtsa.dot.gov/nhtsa.announce/meetings/. If you do not have access to the Web site, you may call for information at the contacts listed below and leave your telephone or telefax number. You will be contacted only if the meeting is postponed or canceled.

FOR FURTHER INFORMATION CONTACT: Jan Cooper at telephone (937) 666-4511 extension 208. If Ms. Cooper is not available, you may contact Fred Seeberg at telephone (937) 666-4511 or Susan Weiser at telephone (937) 666-4511 extension 209.

Issued on: November 20, 2002.
Joseph N. Kanianthra,
Associate Administrator for Applied Research.

[FR Doc. 02-30054 Filed 11-25-02; 8:45 am]

BILLING CODE 4910-59-P